DEPARTMENT OF ENERGY

National Coal Council Meeting

AGENCY: Department of Energy

ACTION: Notice of open meeting

SUMMARY: This notice announces a meeting of the National Coal Council (NCC). The Federal Advisory Committee Act (Pub. L. 92-463, 86 Stat. 770) requires that public notice of meetings be announced in the Federal Register.

DATES: Friday, November 1, 2013 9:00 a.m. to 12:00 p.m.

ADDRESSES: Washington Court Hotel, 525 New Jersey Avenue NW., Washington, DC 20001-1527.

FOR FURTHER INFORMATION CONTACT: Dr. Robert J. Wright, U.S. Department of Energy, 4G-036/Forrestal Building, 1000 Independence Avenue SW., Washington, DC 20585-0001; Telephone: 202-586-0429.

SUPPLEMENTARY INFORMATION: Purpose of the Council: The National Coal Council provides advice and recommendations to the Secretary of Energy on general policy matters relating to coal and the coal industry

Purpose of Meeting: The November 2013 meeting of the National Coal Council.

Agenda:

▪ Opening Remarks by NCC Chair John Eaves

▪ Robert Bryce, Senior Fellow, The Manhattan Institute: “Global Energy Trends: How Electric Demand is Driving Coal”

▪ Thomas Alley, Vice President Generation, EPRI: “The Power System of the Future: Flexible Supply & Generation”

▪ National Coal Council Business Reports: Janet Gellici, Executive Vice President & COO, National Coal Council

▪ Adjourn

Public Participation: The meeting is open to the public. If you would like to file a written statement with the Council, you may do so either before or after the meeting. If you would like to make oral statements regarding any item on the agenda, you should contact Dr. Robert J. Wright, 202-586-0429 or robert.wright@hq.doe.gov (email). You must make your request for an oral statement at least 5 business days before the meeting. Reasonable provision will be made to include oral statements on the scheduled agenda. The Chairperson of the Council will lead the meeting in a manner that facilitates the orderly conduct of business. Oral statements are limited to 10 minutes per organization and per person.

Minutes: A link to the transcript of the meeting will be posted on the NCC Web site at: http://www.nationalcoalcouncil.org/.

Issued at Washington, DC, on September 26, 2013.
LaTanya R. Butler,
Deputy Committee Management Officer.

[FR Doc. 2013-24091 Filed 10-1-13; 8:45 am]

BILLING CODE 6450-01-P